ENVIRONMENTAL PROTECTION AGENCY

[EPA-HQ-OAR-2007-0482; FRL-8898-3]

Agency Information Collection Activities; Proposed Collection; Comment Request; Information Collection Activities Associated With SmartWay Transport Partnership; EPA ICR No. 2265.01, OMB Control No. 2060—NEW

AGENCY: Environmental Protection Agency (EPA).

ACTION: Notice.

SUMMARY: In compliance with the Paperwork Reduction Act (PRA) (44 U.S.C. 3501 et seq.), this document announces that EPA is planning to submit a request for a new Information Collection Request (ICR) to the Office of Management and Budget (OMB). Before submitting the ICR to OMB for review and approval, EPA is soliciting comments on specific aspects of the proposed information collection as described below.

DATES: Comments must be submitted on or before June 29, 2009.

ADDRESSES: Submit your comments, identified by Docket ID No. EPA-HQ-OAR-2007-0482 by one of the following methods:

• www.regulations.gov: Follow the on-line instructions for submitting comments.

• E-mail: smartway_transport@epa.gov.

• Fax: 202-343-2803

• Mail: SmartWay Transport Partnership, Environmental Protection Agency, Mailcode: 6406J, 1200 Pennsylvania Ave., NW., Washington, DC 20460.

• Hand Delivery: Air Docket, EPA, Mailcode: 6102T, 1200 Pennsylvania Ave., NW., Washington, DC 20460. Such deliveries are only accepted during the Docket's normal hours of operation, and special arrangements should be made for deliveries of boxed information.

Instructions: Direct your comments to Docket ID No. EPA-HQ-OAR-2007-0482. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or e-mail. The www.regulations.gov Web site is an “anonymous access” system, which means EPA will not know your identity or contact information unless you provide it in the body of your comment. If you send an e-mail comment directly to EPA without going through www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

FOR FURTHER INFORMATION CONTACT: Denise Kearns, U.S. Environmental Protection Agency, 2000 Traverwood Drive, Ann Arbor, MI 48105; telephone: 734-214-4240; Fax: 734-214-4906; e-mail: kearns.denise @epa.gov.

SUPPLEMENTARY INFORMATION:

How Can I Access the Docket and/or Submit Comments?

EPA has established a public docket for this ICR under Docket ID No. EPA-HQ-OAR-2007-0482, which is available for online viewing at www.regulations.gov, or in person viewing at the Air Docket in the EPA Docket Center (EPA/DC), EPA West, Room 3334, 1301 Constitution Ave., NW., Washington, DC. The EPA/DC Public Reading Room is open from 8 a.m. to 4:30 p.m., Monday through Friday, excluding legal holidays. The telephone number for the Reading Room is 202-566-1744, and the telephone number for the Air Docket is 202-566-1742.

Use www.regulations.gov to obtain a copy of the draft collection of information, submit or view public comments, access the index listing of the contents of the docket, and to access those documents in the public docket that are available electronically. Once in the system, select “search,” then key in the docket ID number identified in this document.

What Information Is EPA Particularly Interested in?

Pursuant to section 3506(c)(2)(A) of the PRA, EPA specifically solicits comments and information to enable it to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

What Should I Consider When I Prepare My Comments for EPA?

You may find the following suggestions helpful for preparing your comments:

1. Explain your views as clearly as possible and provide specific examples.

2. Describe any assumptions that you used.

3. Provide copies of any technical information and/or data you used that support your views.

4. If you estimate potential burden or costs, explain how you arrived at the estimate that you provide.

5. Offer alternative ways to improve the collection activity.

6. Make sure to submit your comments by the deadline identified under DATES.

7. To ensure proper receipt by EPA, be sure to identify the docket ID number assigned to this action in the subject line on the first page of your response. You may also provide the name, date, and Federal Register citation.

What Information Collection Activity or ICR Does This Apply to?

Docket ID No. EPA-HQ-OAR-2007-0482

Affected entities: Entities potentially affected by this action include private and public organizations that join the SmartWay Transport Partnership; freight industry representatives who engage in activities related to the SmartWay Partnership; and representative samplings of consumers in the general public. These entities may be affected by EPA efforts to assess the effectiveness and value of the SmartWay program, awareness of the SmartWay brand, and ideas for improving and developing SmartWay.

Title: Information Collection Activities Associated with SmartWay Transport Partnership.

ICR numbers: EPA ICR No. 2265.01, OMB Control No. 2060-NEW.

ICR status: This ICR is for a new information collection activity. An Agency may not conduct or sponsor, and a person is not required to respond to, a collection of information, unless it displays a currently valid OMB control number. The OMB control numbers for EPA's regulations in title 40 of the CFR, after appearing in the Federal Register when approved, are listed in 40 CFR part 9, and are displayed either by publication in the Federal Register or by other appropriate means, such as on the related collection instrument or form, if applicable. The display of OMB control numbers in certain EPA regulations is consolidated in 40 CFR part 9.

Abstract: The EPA's Office of Air and Radiation (OAR) supports the SmartWay Transport Partnership, an energy conservation deployment program that aims to improve fuel efficiency and curb greenhouse gas emissions generated by the freight industry (air, rail, water, truck, transit, pipeline). OAR developed the SmartWay Transport Partnership under directives outlined in Subtitle D of the Energy Policy Act of 2005 which calls on EPA to assess the energy and air quality impacts of activities within the freight industry. These activities include long-duration truck idling, the development and promotion of strategies for reducing idling, fuel consumption, and negative air quality effects. SmartWay's objectives also are consistent with the Federal Technology Transfer Act and other laws that support collaborative partnerships between government and industry.

The partnership is open to organizations that own, operate, and contract fleet operations, including both truck carriers and shippers. “Affiliate” organizations that do not operate fleets, but that are working to strengthen the freight industry, such as industry trade associations, state and local transportation agencies and environmental groups, also may sign on as SmartWay partners.

All organizations that join SmartWay, including carriers, shippers and affiliates are asked to provide EPA with information.

Specifically, as a first step toward partnering with EPA, organizations that operate fleets, such as freight carriers, shippers and logistics management companies, commit to assessing and improving the environmental performance of their freight activities. A company joins SmartWay when it completes the Freight Logistics Environmental and Energy Transportation (FLEET) Performance Model and submits the model's results, along with a signed partnership agreement to EPA. The data outputs from the FLEET Model are used by companies to establish a baseline and set goals for reducing fuel and emissions over the next 3 years. Under their partnership agreement, companies also agree to annually update their FLEET model and to provide those updated results to EPA.

Data outputs from the FLEET Model are vital to the SmartWay Partnership for several reasons. First, the data provides confirmation that EPA's SmartWay Partners have set a baseline, established objectives and are meeting those objectives as outlined in their Partnership Agreement. The FLEET Model outputs also make it possible for EPA to assist our Partners in adjusting their commitments, as appropriate, and to update them with environmental performance and technology information that will empower them to improve their efficiency and achieve their environmental goals. This information also improves EPA's knowledge and understanding of the environmental and energy impacts associated with goods movement, and the effectiveness of both proven and emerging strategies to lessen those impacts.

In addition to requesting FLEET Model data and annual updates on fuel consumption and environmental performance, EPA may ask its SmartWay Partners for other kinds of information. These requests for information may be made of all our SmartWay Partners, including our affiliates. Some examples of this kind of information could include opinions and test data on the effectiveness of new and emerging technology applications; numeric data on sales volumes associated with SmartWay recommended vehicle equipment and technologies; the reach and value of partnering with EPA through the SmartWay program; and awareness of the SmartWay brand. In some instances, EPA might also query other freight industry representatives (not just SmartWay Partners), including trade and professional associations, nonprofit environmental groups, energy, and community organizations, and schools and universities, and a small sampling of the general public.

Burden Statement: Total annual burden is estimated at 10,081 hours. The estimated number of Respondent Partners is 1,462 the first year, with a growth of 255 Partners per year projected into the future. The estimated average burden time per Respondent is 4.6 hours annually. EPA notes that this is a weighted average across all SmartWay Partners, regardless of whether they are affiliates, shippers, carriers, or logistics companies. The weighted average also includes 300 consumer and industry respondents who spend far less time, providing the SmartWay program with basic information on their awareness of the program.

Among Respondent Partners, the burden hours are typically higher for larger companies with more complex fleets, than for smaller companies. Burden means the total time, effort, or financial resources expended by persons to generate, maintain, retain, disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

What Is the Next Step in the Process for This ICR?

EPA will consider the comments received and amend the ICR as appropriate. The final ICR package will then be submitted to OMB for review and approval pursuant to 5 CFR 1320.12. At that time, EPA will issue another Federal Register notice pursuant to 5 CFR 1320.5(a)(1)(iv) to announce the submission of the ICR to OMB and the opportunity to submit additional comments to OMB. If you have any questions about this ICR or the approval process, please contact the technical person listed under FOR FURTHER INFORMATION CONTACT.

Dated: April 9, 2009.
Sarah Dunham,
Acting Director, Transportation and Regional Programs Division, Office of Transportation and Air Quality.

[FR Doc. E9-9652 Filed 4-27-09; 8:45 am]

BILLING CODE 6560-50-P